DEPARTMENT OF TRANSPORTATION

Research and Innovative Technology Administration

Notice of Meeting

AGENCY: Research and Innovative Technology Administration, DOT.

ACTION: Notice.

SUMMARY: The U.S. Department of Transportation is providing notice that it intends to hold a Distracted Driving Summit (The Summit) to exchange information and ideas on the best possible methods to reduce the number of crashes and deaths due to distracted driving.

Meeting Date: September 21, 2010.

ADDRESSES: The Summit will be held at Renaissance Hotel in Washington, DC. The Department welcomes comments or questions prior to and during the Summit. If you would like to submit a comment or question prior to the Summit, you may submit comments/questions identified by DOT Docket ID Number RITA 2010-0003 by any of the following methods:

• Federal eRulemaking Portal: Go to http://www.regulations.gov. Follow the online instructions for submitting comments.

• Mail: Docket Management Facility: U.S. Department of Transportation, 1200 New Jersey Avenue, SE., West Building Ground Floor, Room W12-140, Washington, DC 20590-0001.

• Hand Delivery or Courier: West Building Ground Floor, Room W12-140, 1200 New Jersey Avenue, SE., between 9 a.m. and 5 p.m. ET, Monday through Friday, except Federal holidays.

• Fax: 202-493-2251

Instructions: Identify docket number, RITA 2010-0003, at the beginning of your comments. To receive confirmation that DOT received your comments, include a self-addressed stamped postcard. Internet users may access all comments received by DOT at http://www.regulations.gov. All comments/questions will be posted electronically without charge or edits, including any personal information provided.

Privacy Act: Anyone is able to search the electronic form of all comments/questions filed in our dockets by the name of the individual submitting the comment or question (or signing the comment, if submitted on behalf of an association, corporation, business entity, labor union, etc.). You may review DOT's complete Privacy Act Statement in the Federal Register published on April 11, 2000 (65 FR 19477-78) or you may visit http://DocketInfo.dot.gov.

Docket: For access to the docket to read background documents or comments received, go to http://www.regulations.gov. or the street address listed above. Follow the online instructions for accessing the dockets.

FOR FURTHER INFORMATION CONTACT: Thomas Bolle, Office of Governmental, International and Public Affairs, RTG-20, Research and Innovative Technology Administration, Telephone Number (202) 366-0665, Fax Number (202) 366-1134 EMAIL—distracteddriving@dot.gov.

SUPPLEMENTARY INFORMATION:

Background

The Summit will build on the momentum from last year's summit bringing together senior transportation officials, elected officials, safety advocates, law enforcement representatives, private sector representatives and academics to address a range of issues related to reducing accidents through enforcement, public awareness and education. Authoritative speakers from around the nation will lead interactive panel discussions on a number of key topics including the extent and impact of distracted driving, current research, regulations and best practices.

The U.S. Department of Transportation is committed to providing equal access to this Summit. Based on limited seating and to accommodate the strong interest outside the Washington area, the Summit will be available live by Webcast and members of the public will be given the opportunity to submit questions or comments online for each individual panel discussion. The Department has also created a Web site to provide information and updates on the Summit as details become available: http://www.distraction.gov/2010summit/. If you need alternative formats or services because of a disability, please contact Thomas Bolle with your specific request by September 13, 2010.

Exhibit Space for this year's Summit will be handled separately by the National Organizations for Youth Safety. Thus, anyone who wishes to request exhibit space for the Summit should contact the National Organizations for Youth Safety directly. Questions pertaining to exhibit space should be directed to Nicole Graziosi by phone at 571-377-0903 or by e-mail at ngraziosi@noys.org.

Issued in Washington, DC, on August 6, 2010.
Peter H. Appel,
Administrator.

[FR Doc. 2010-19988 Filed 8-12-10; 8:45 am]

BILLING CODE 4910-HY-P